DEPARTMENT OF TRANSPORTATION

Federal Aviation Administration

Recommendations from Airman Testing Standards and Training Aviation Rulemaking Committee (ARC)

AGENCY: Federal Aviation Administration (FAA), DOT.

ACTION: Notice of report availability.

SUMMARY: This notice announces the availability of a report from the ARC, which presents recommendations to enhance the content, process, and methodology for development of aeronautical knowledge testing and training materials.

FOR FURTHER INFORMATION CONTACT: Van L. Kerns, Manager, Regulatory Support Division, FAA Flight Standards Service, AFS 600, FAA Mike Monroney Aeronautical Center, P.O. Box 25082, Oklahoma City, OK 73125; telephone (405) 954-4431, email van.l.kerns@faa.gov.

SUPPLEMENTARY INFORMATION:

Background

On September 21, 2011, the FAA chartered the ARC to provide a forum for the U.S. aviation community to share its experience and expertise in the areas of aeronautical knowledge required for safer operation in today's National Airspace System (NAS).

The FAA's charge to the ARC was to help ensure that technical information related to airman knowledge tests, computer testing supplements, knowledge test guides, and training handbooks incorporates the most current and relevant standards, policies, procedures, and techniques. The FAA specifically tasked the ARC with providing recommendations on the content of these materials, a process for stakeholder participation, and appropriate methodologies for developing test item bank questions. The FAA also requested the ARC's recommendations on prioritizing the enhancement of these materials.

Notice of Availability

The ARC submitted its report to FAA on April 13, 2012. The report is now available for review and download from the FAA Web site at: http://www.faa.gov/aircraft/draft_docs/arc.

Issued in Washington, DC on June 12, 2012.
Melvin O. Cintron,
Acting, Director, Flight Standards, AFS-1.

[FR Doc. 2012-16298 Filed 7-2-12; 8:45 am]

BILLING CODE 4910-13-P